SMALL BUSINESS ADMINISTRATION

[Declaration of Disaster #3636]

State of New Jersey

As a result of the President's major disaster declaration on October 1, 2004, I find that Hunterdon, Mercer, Sussex, and Warren Counties in the State of New Jersey constitute a disaster area due to damages caused by Tropical Depression Ivan occurring on September 18, 2004, and continuing. Applications for loans for physical damage as a result of this disaster may be filed until the close of business on November 30, 2004 and for economic injury until the close of business on July 1, 2005 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Burlington, Middlesex, Monmouth, Morris, Passaic, and Somerset in the State of New Jersey; Orange County in the State of New York; and Bucks, Monroe, Northampton, and Pike Counties in the Commonwealth of Pennsylvania.

Mercer, Sussex, and Warren Counties in the State of New Jersey are also eligible under Public Assistance and our disaster loan program is available for private non-profit organizations that provide essential services of a governmental nature in those counties.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 363608. For economic injury the number is 9AD600 for New Jersey; 9AD700 for New York; and 9AD800 for Pennsylvania. The Public Assistance number assigned to New Jersey is P06108.

(Catalog of Federal Domestic Assistance Program Nos. 59002 and 59008)

Dated: October 5, 2004.
Herbert L. Mitchell,
Associate Administrator for Disaster Assistance.

[FR Doc. 04-22933 Filed 10-12-04; 8:45 am]

BILLING CODE 8025-01-P